DEPARTMENT OF HOMELAND SECURITY

Coast Guard

[Docket No. USCG-2024-0384]

National Merchant Marine Personnel Advisory Committee; Vacancies

AGENCY: Coast Guard, Department of Homeland Security.

ACTION: Notice; request for applications.

SUMMARY: The U.S. Coast Guard is accepting applications to fill eleven vacancies on the National Merchant Marine Personnel Advisory Committee (Committee). This Committee advises the Secretary of Homeland Security via the Commandant of the U.S. Coast Guard on matters relating to personnel in the United States Merchant Marine, including the training, qualifications, certification, documentation, and fitness of mariners. Individuals currently holding these appointments will need to re-apply if they wish to continue as Committee members.

DATES: Complete applications must reach the U.S. Coast Guard on or before October 1, 2024.

ADDRESSES: Applications must include (a) a cover letter expressing interest in an appointment to the National Merchant Marine Personnel Advisory Committee, (b) a resume detailing the applicant's relevant experience for the position applied for (including the U.S. Coast Guard issued mariner reference number if applicable), and (c) a brief 2-3 paragraph biography written in third-person perspective. Applications should be submitted via email with subject line “Application for NMERPAC” to megan.c.johns@uscg.mil.

FOR FURTHER INFORMATION CONTACT: Ms. Megan Johns Henry, Alternate Designated Federal Officer of the National Merchant Marine Personnel Advisory Committee; telephone 202-372-1255 or email at megan.c.johns@uscg.mil.

SUPPLEMENTARY INFORMATION: The National Merchant Marine Personnel Advisory Committee is a Federal advisory committee. The Committee was established on December 4, 2018, by section 601 of the Frank LoBiondo Coast Guard Authorization Act of 2018 (Pub. L. No 115-282, 132 Stat 4192), and is codified in 46 U.S.C. 15103. The Committee operates under the provisions of the Federal Advisory Committee Act, and 46 U.S.C. 15109.

The Committee is required to meet at least once a year in accordance with 46 U.S.C. 15109(a). We expect the Committee will hold meetings twice per year, typically in the last week of March and the week of September immediately following the Labor Day holiday. The meetings are held at locations across the country selected by the U.S. Coast Guard.

Under provisions in 46 U.S.C. 15109(f)(6), if you are appointed as a member of the Committee, your membership term will expire on December 31st of the third full year after the effective date of your appointment. Under provisions 46 U.S.C. 15109(f)(4) the Secretary of Homeland Security may require an individual to have passed an appropriate security background examination before appointment to the Committee. Committee members are required to attend and participate in meetings regularly; members may be recommended for removal if they miss two consecutive meetings without a valid reason that is acceptable to the Chair of the Committee and the Designated Federal Officer.

In this solicitation for Committee members, we will consider applications for eleven (11) positions, which include:

• Four United States citizens holding a valid Merchant Mariner Credential (MMC) issued under 46 U.S.C. chapter 71 or 46 U.S.C. chapter 73, including:

○ One credentialed deck officer who represents merchant marine deck officers who shall be: (1) endorsed for an inland or river route of limited or unlimited tonnage; (2) endorsed as Master of Towing Vessels; and (3) to the extent practicable, shall represent labor.

○ Two credentialed engineering officers, of which: (1) one shall be endorsed as Chief Engineer of unlimited horsepower; (1) one shall be endorsed either as Chief Engineer of limited horsepower or Designated Duty Engineer and to the extent practicable, (1) one shall represent management.

○ One credentialed rating, endorsed as able bodied seaman;

• Three Marine educators who represent other maritime training institutions (other than academies), of which one may also represent the small vessel industry;

• Two individuals who represent shipping companies employed in ship operation management; and,

• Two individuals who represent the general public.

Each member of the Committee must have expertise, knowledge, and experience on matters related to personnel in the United States merchant marine, including the training, qualifications, certification, documentation, and fitness of mariners.

All members serve at their own expense and receive no salary or other compensation from the Federal Government. The only compensation the members may receive is for travel expenses, including per diem in lieu of subsistence, and actual reasonable expenses incurred in the performance of their direct duties for the Committee in accordance with Federal Travel Regulations.

If you are appointed as a member of the Committee, you will be required to sign a Non-Disclosure Agreement and a Gratuitous Services Agreement.

If you are selected as a member drawn from the general public, you will be appointed and serve as a Special Government Employee as defined in 18 U.S.C. 202(a). Applicants for appointment as a Special Government Employee are required to complete a Confidential Financial Disclosure Report (OGE Form 450) for new entrants and if appointed as a member must submit an OGE Form 450 annually. The U.S. Coast Guard may not release the reports or the information in them to the public except under an order issued by a Federal court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

In order for the Department to fully leverage broad-ranging experience and education, the National Merchant Marine Personnel Advisory Committee must be diverse with regard to professional and technical expertise. The Department is committed to pursuing opportunities, consistent with applicable law, to compose a committee that reflects the diversity of the Nation's people.

If you are interested in applying to become a member of the Committee, email your application to megan.c.johns@uscg.mil as provided in the ADDRESSES section of this notice. Applications must include: (1) a cover letter expressing interest in an appointment to the National Merchant Marine Personnel Advisory Committee; (2) a resume detailing the applicant's relevant experience; and (3) a brief 2-3 paragraph biography of the applicant written in third-person perspective by the deadline in the DATES section of this notice. Applications for members who will serve to represent the general public must be accompanied by a completed OGE Form 450. Once we receive your application we will send you an email confirming receipt.

The U.S. Coast Guard will not consider incomplete or late applications.

Privacy Act Statement

Purpose: To obtain qualified applicants to fill one vacancy on the National Merchant Marine Personnel Advisory Committee. When you apply for appointment to the DHS' Merchant Marine Personnel Advisory Committee, DHS collects your name, contact information, and any other personal information that you submit in conjunction with your application. DHS will use this information to evaluate your candidacy for Committee membership. If you are chosen to serve as a Committee member, your name will appear in publicly available Committee documents, membership lists, and Committee reports.

Authorities: 14 U.S.C. 504; 46 U.S.C. 15103 and 15109; 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57642, October 3, 2008).

Consequences of Failure to Provide Information: Furnishing this information is voluntary. However, failure to furnish the requested information may result in your application not being considered for the Committee.

Dated: July 30, 2024.
Jeffrey G. Lantz,
Director of Commercial Regulations and Standards.

[FR Doc. 2024-17119 Filed 8-1-24; 8:45 am]

BILLING CODE 9110-04-P